DEPARTMENT OF HEALTH AND HUMAN SERVICES

Centers for Medicare & Medicaid Services

[Document Identifiers: CMS-10542, CMS-10543 and CMS-209]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by March 16, 2015.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 or Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection (Request for a new OMB control number); Title of Information Collection: Hospital Consumer Assessment of Healthcare Providers and Systems (HCAHPS) Survey Mode Experiment; Use: Hospital-level scores derived from national implementation of Hospital Consumer Assessment of Healthcare Providers and Systems (HCAHPS) Survey are publicly reported quality data on CMS' Hospital Compare Web site. Our HCAHPS initiative allows vendors to select one mode of survey administration from four approved administration protocols (mail only, telephone only, mail-telephone mixed mode, and touch-tone IVR only). Before public reporting, HCAHPS scores are adjusted for the selected mode of administration, using mail administration as the comparison mode, to correct for any inflation or deflation of scores that are a result of mode. The current mode adjustments employed for HCAHPS are the product of two separate mode experiments conducted using different versions of the survey and different sample. The purpose of the planned HCAHPS mode experiment is to conduct a mode experiment of sufficient sample and scale to determine if the mode adjustments currently employed for the 32-item HCAHPS core survey need revision. An additional goal is to collect empirical evidence on the effect of the number of additional supplemental items on survey response rate and patterns of response to the HCAHPS core demographic items (known as “About You” items). Form Number: CMS-10542 (OMB control number 0938-New); Frequency: Once; Affected Public: Individuals and households; Number of Respondents: 8,160; Total Annual Responses: 8,160; Total Annual Hours: 1,322. (For policy questions regarding this collection contact Elizabeth Flow-Delwiche at 410-786-1718).

2. Type of Information Collection Request: New collection (Request for a new OMB control number); Title of Information Collection: Emergency Department Patient Experience of Care (EDPEC) Survey Mode Experiment; Use: This survey supports the six national priorities for improving care from the National Quality Strategy developed by the Department of Health and Human Services that was called for under the Affordable Care Act to create national aims and priorities to guide local, state, and national efforts to improve the quality of health care. The six priorities include: Making care safer by reducing harm caused by the delivery of care; ensuring that each person and family are engaged as partners in their care; promoting effective communication and coordination of care; promoting the most effective prevention and treatment practices for the leading causes of mortality, starting with cardiovascular disease; working with communities to promote wide use of best practices to enable healthy living; and making quality care more affordable for individuals, families, employers, and governments by developing and spreading new health care delivery models. In 2012, we launched the development of the Emergency Department Patient Experience of Care Survey (EDPEC) to measure the experiences of patients (18 and older) with emergency department care. This survey will provide patient experience with care data that enables comparisons of emergency department and support for improving the quality of patient experience in the emergency department. Form Number: CMS-10543 (OMB control number 0938-New); Frequency: Once; Affected Public: Individuals and households; Number of Respondents: 4,951; Total Annual Responses: 4,951; Total Annual Hours: 923. (For policy questions regarding this collection contact Elizabeth Flow-Delwiche at 410-786-1718).

3. Type of Information Collection Request: Extension without change of a currently approved collection; Title of Information Collection: Laboratory Personnel Report (CLIA) and Supporting Regulations; Use: The information collected on this survey form is used in the administrative pursuit of the Congressionally-mandated program with regard to regulation of laboratories participating in CLIA. The surveyor will provide the laboratory with the CMS-209 form. While the surveyor performs other aspects of the survey, the laboratory will complete the CMS-209 by recording the personnel data needed to support their compliance with the personnel requirements of CLIA. The surveyor will then use this information in choosing a sample of personnel to verify compliance with the personnel requirements. Information on personnel qualifications of all technical personnel is needed to ensure the sample is representative of the entire laboratory; Form Number: CMS-209 (OMB control number 0938-0151); Frequency: Biennially; Affected Public: Private Sector—State, Local, or Tribal Governments; and Federal Government; Number of Respondents: 19,051; Total Annual Responses: 9,526; Total Annual Hours: 4,763. (For policy questions regarding this collection contact Kathleen Todd at 410-786-3385.)

Dated: February 10, 2015.
William N. Parham, III,
Director, Paperwork Reduction Staff, Office of Strategic Operations and Regulatory Affairs.

[FR Doc. 2015-03036 Filed 2-12-15; 8:45 am]

BILLING CODE 4120-01-P